DEPARTMENT OF LABOR

Employment and Training Administration

[TA-W-51,834]

Agilent Technologies, Inc., Information Technology Division (IT), Colorado Springs, CO; Notice of Negative Determination Regarding Application for Reconsideration

By application of July 17, 2003, a petitioner requested administrative reconsideration of the Department's negative determination regarding eligibility for workers and former workers of the subject firm to apply for Trade Adjustment Assistance (TAA). The denial notice applicable to workers of Agilent Technologies, Inc., Information Technology Division (IT), Colorado Springs, Colorado was signed on June 16, 2003, and published in the Federal Register on July 3, 2003 (68 FR 39976).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The TAA petition was filed on behalf of workers at Agilent Technologies, Inc., Information Technology Division (IT), Colorado Springs, Colorado, engaged in computer consulting services combined with providing information technology. The petition was denied because the petitioning workers did not produce an article within the meaning of Section 222 of the Act.

The petitioner appears to imply that the petitioning worker group should be considered eligible for TAA on the basis that they served as secondary upstream supplier to a trade certified firm.

In fact, in order to be eligible for TAA, workers must produce an article. Further, in order to meet TAA eligibility requirements as secondary upstream suppliers, the worker group must produce a component part of the product that was the basis of the TAA certification for the customer firm.

Only in very limited instances are service workers certified for TAA, namely the worker separations must be caused by a reduced demand for their services from a parent or controlling firm or subdivision whose workers produce an article and who are currently under certification for TAA.

Conclusion

After review of the application and investigative findings, I conclude that there has been no error or misinterpretation of the law or of the facts which would justify reconsideration of the Department of Labor's prior decision. Accordingly, the application is denied.

Signed at Washington, DC, this 13th day of August 2003.
Elliott S. Kushner,
Certifying Officer, Division of Trade Adjustment Assistance.

[FR Doc. 03-22996 Filed 9-9-03; 8:45 am]

BILLING CODE 4510-30-P